FEDERAL TRADE COMMISSION

16 CFR Part 312

RIN 3084-AB20

The Federal Trade Commission's Implementation of the Children's Online Privacy Protection Rule

AGENCY: Federal Trade Commission.

ACTION: Extension of deadline for submission of public comments.

SUMMARY: The Federal Trade Commission (“FTC” or “Commission”) is extending the deadline for filing comments on its implementation of the Children's Online Privacy Protection Act (“COPPA”), through the Children's Online Privacy Protection Rule (“COPPA Rule” or “the Rule”).

DATES: Comments must be received on or before December 9, 2019.

ADDRESSES: Interested parties may file a comment online or on paper by following the Request for Comment part of the SUPPLEMENTARY INFORMATION section below. Write “COPPA Rule Review, 16 CFR Part 312, Project No. P195404,” on your comment and file your comment online at https://www.regulations.gov by following the instructions on the web-based form. If you prefer to file your comment on paper, mail your comment to the following address: Federal Trade Commission, Office of the Secretary, 600 Pennsylvania Avenue NW, Suite CC-5610 (Annex B), Washington, DC 20580, or deliver your comment to the following address: Federal Trade Commission, Office of the Secretary, Constitution Center, 400 7th Street SW, 5th Floor, Suite 5610 (Annex B), Washington, DC 20024.

FOR FURTHER INFORMATION CONTACT: Peder Magee (202-326-3358) or James Trilling (202-326-3497), Division of Privacy and Identity Protection, Federal Trade Commission, 600 Pennsylvania Avenue NW, Washington, DC 20580.

SUPPLEMENTARY INFORMATION:

I. Comment Period Extension

On July 25, 2019, the Commission published in the Federal Register a Request for Public Comment on the Federal Trade Commission's Implementation of the COPPA Rule (84 FR 35842), with an October 23, 2019 deadline for filing comments (“the Notice”). The Commission published the Notice to facilitate the Commission's review of the COPPA Rule to ensure that it has kept up with marketplace, technology, and business model changes that have occurred since the Commission ended its last review of the COPPA Rule in 2013. Interested parties have subsequently requested an extension of the public comment period to give them additional time to respond to the Notice's requests for comment and to address actions that have occurred since the Commission published the Notice, including the Commission's announcement of a new COPPA enforcement action on September 4, 2019 and the completion of the Commission's public workshop on “The Future of the COPPA Rule” on October 7, 2019.

The Commission agrees that allowing additional time for filing comments on its implementation of the COPPA Rule would help facilitate the creation of a more complete record. The Commission has therefore decided to extend the comment period for 45 days, to December 9, 2019. A 45-day extension provides commenters adequate time to address the issues raised in the Notice and relevant actions that have occurred since the Commission published the Notice.

II. Request for Comment

You can file a comment online or on paper. For the Commission to consider your comment, we must receive it on or before December 9, 2019. Write “COPPA Rule Review, 16 CFR Part 312, Project No. P195404,” on the comment. Your comment, including your name and your state, will be placed on the public record of this proceeding, including, to the extent practicable, on the https://www.regulations.gov website.

Postal mail addressed to the Commission is subject to delay due to heightened security screening. As a result, we encourage you to submit your comment online. To make sure that the Commission considers your online comment, you must file it at https://www.regulations.gov by following the instructions on the web-based form.

If you file your comment on paper, write “COPPA Rule Review, 16 CFR Part 312, Project No. P195404,” on your comment and on the envelope, and mail your comment to the following address: Federal Trade Commission, Office of the Secretary, 600 Pennsylvania Avenue NW, Suite CC-5610 (Annex B), Washington, DC 20580, or deliver your comment to the following address: Federal Trade Commission, Office of the Secretary, Constitution Center, 400 7th Street SW, 5th Floor, Suite 5610 (Annex B), Washington, DC 20024. If possible, please submit your paper comment to the Commission by courier or overnight service.

Because your comment will be placed on the publicly accessible website, https://www.regulations.gov, you are solely responsible for making sure that your comment does not include any sensitive personal information, such as your or anyone else's Social Security number, date of birth, driver's license number or other state identification number or foreign country equivalent, passport number, financial account number, or credit or debit card number. You are also solely responsible for making sure that your comment does not include any sensitive health information, such as medical records or other individually identifiable health information. In addition, your comment should not include any “[t]rade secret or any commercial or financial information which is obtained from any person and which is privileged or confidential . . . , ” as provided in Section 6(f) of the Federal Trade Commission Act (“FTC Act”), 15 U.S.C. 46(f), and FTC Rule 4.10(a)(2), 16 CFR 4.10(a)(2), including, in particular, competitively sensitive information such as costs, sales statistics, inventories, formulas, patterns, devices, manufacturing processes, or customer names.

Comments containing material for which confidential treatment is requested must be filed in paper form, must be clearly labeled “Confidential,” and must comply with FTC Rule 4.9(c), 16 CFR 4.9(c). In particular, the written request for confidential treatment that accompanies the comment must include the factual and legal basis for the request, and must identify the specific portions of the comments to be withheld from the public record. Your comment will be kept confidential only if the FTC General Counsel grants your request in accordance with the law and the public interest. Once your comment has been posted publicly at www.regulations.gov—as legally required by FTC Rule 4.9(c)—we cannot redact or remove your comment from the FTC website, unless you submit a confidentiality request that meets the requirements for such treatment under FTC Rule 4.9(c), and the General Counsel grants the request.

Visit the Commission website at https://www.ftc.gov to read this document and the news release describing it. The FTC Act and other laws that the Commission administers permit the collection of public comments to consider and use in this proceeding as appropriate. The Commission will consider all timely and responsive public comments that it receives on or before December 9, 2019. For information on the Commission's privacy policy, including routine uses permitted by the Privacy Act, see https://www.ftc.gov/site-information/privacy-policy.

By direction of the Commission.
April J. Tabor,
Acting Secretary.

[FR Doc. 2019-22940 Filed 10-21-19; 8:45 am]

BILLING CODE 6750-01-P